DEPARTMENT OF LABOR

Employment and Training Administration

[TA-W-65,442]

Freudenberg Nok; Vibration Control Technologies Division; Plymouth, MI; Notice of Termination of Investigation

Pursuant to Section 221 of the Trade Act of 1974, as amended, an investigation was initiated on March 2, 2009 in response to a worker petition filed by a One Stop Operator in the state of Colorado on behalf of workers at Freudenberg NOK, Vibration Control Technologies, Plymouth, Michigan.

As a One Stop Operator in the State of Colorado, the petitioner is not authorized to file a petition on behalf of a worker group outside of Colorado. Thus the petition has been deemed invalid and the investigation has been terminated.

Signed at Washington, DC, this 4th day of March 2009.
Richard Church,
Certifying Officer, Division of Trade Adjustment Assistance.

[FR Doc. E9-5922 Filed 3-18-09; 8:45 am]

BILLING CODE 4510-FN-P